ENVIRONMENTAL PROTECTION AGENCY

[EPA-HQ-OAR-2022-0038; FRL-11348-01-OMS]

Information Collection Request Submitted to OMB for Review and Approval; Comment Request; NSPS for Stationary Spark Ignition Internal Combustion Engines (Renewal)

AGENCY: Environmental Protection Agency (EPA).

ACTION: Notice.

SUMMARY: The Environmental Protection Agency (EPA) has submitted an information collection request (ICR), NSPS for Stationary Spark Ignition Internal Combustion Engines (EPA ICR Number 2227.07, OMB Control Number 2060-0610), to the Office of Management and Budget (OMB) for review and approval in accordance with the Paperwork Reduction Act. This is a proposed extension of the ICR, which is currently approved through September 30, 2023. Public comments were previously requested via the Federal Register on July 22, 2022 during a 60-day comment period. This notice allows for an additional 30 days for public comments.

DATES: Comments may be submitted on or before September 18, 2023.

ADDRESSES: Submit your comments, referencing Docket ID Number EPA-HQ-OAR-2022-0038, to EPA online using https://www.regulations.gov/ (our preferred method); or by email to a-and-r-docket@epa.gov; or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this specific information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through September 30, 2023. An agency may not conduct nor sponsor, and a person is not required to respond to a collection of information unless it displays a currently valid OMB control number.

Public comments were previous requested via the Federal Register on July 22, 2022 during a 60-day comment period (87 FR 43843). This notice allows for an additional 30 days for public comments. Supporting documents, which explain in detail the information that the EPA will be collecting, are available in the public docket for this ICR. The docket can be viewed online at www.regulations.gov, or in person, at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Stationary Spark Ignition Internal Combustion Engines (40 CFR part 60, subpart JJJJ) were promulgated on January 18, 2008; and most-recently amended on August 10, 2022. These regulations apply to existing and new manufacturers, owners, and operators of stationary spark ignition (SI) internal combustion engines (ICE) that commenced construction, modification, or reconstruction either on or after the dates specified at 40 CFR 60.4230(a)(1)-(6). New facilities include those that commenced construction, modification or reconstruction after the date of proposal. This information is being collected to assure compliance with 40 CFR part 60, subpart JJJJ.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NSPS.

Form Numbers: 5900-596.

Respondents/affected entities: Manufacturers, owners, and operators of stationary spark ignition internal combustion engines.

Respondent's obligation to respond: Mandatory (40 CFR part 60, subpart JJJJ).

Estimated number of respondents: 20,088 (total).

Frequency of response: Initially and annually.

Total estimated burden: 38,000 hours (per year). Burden is defined at 5 CFR 1320.3(b).

Total estimated cost: $7,540,000 (per year), which includes $2,920,000 in annualized capital/startup and/or operation & maintenance costs.

Changes in the Estimates: There is an increase in the total estimated burden as currently identified in the OMB Inventory of Approved Burdens. This increase is not due to any program changes or changes in regulatory requirements. The change in the burden and cost estimates is due primarily to an increase in the number of existing sources subject to rule requirements. This increase is based on the growth rate from the prior ICR and assumes continued growth in the manufacture and use of SI ICE. This has led to an increase in O&M costs, as well as for recordkeeping and reporting costs.

Courtney Kerwin,
Director, Regulatory Support Division.

[FR Doc. 2023-17841 Filed 8-17-23; 8:45 am]

BILLING CODE 6560-50-P